ENVIRONMENTAL PROTECTION AGENCY

[EPA-HQ-OW-2020-0017; FRL 10004-75-OW]

Proposed Information Collection Request; Comment Request; Information Collection Request for the 2020 Drinking Water Infrastructure Needs Survey and Assessment (DWINSA)

AGENCY: Environmental Protection Agency (EPA).

ACTION: Notice.

SUMMARY: The Environmental Protection Agency (EPA) is planning to submit an information collection request (ICR), “Information Collection Request for the 2020 Drinking Water Infrastructure Needs Survey and Assessment (DWINSA)” (EPA ICR No. 2616.01, OMB Control No. 2040-NEW) to the Office of Management and Budget (OMB) for review and approval in accordance with the Paperwork Reduction Act (PRA). Before doing so, the EPA is soliciting public comments on specific aspects of the proposed information collection as described in this document. This is a request for approval of a new collection. An Agency may not conduct or sponsor and a person is not required to respond to a collection of information unless it displays a currently valid OMB control number.

DATES: Comments must be submitted on or before April 6, 2020.

ADDRESSES: Submit your comments, referencing Docket ID No. EPA-HQ-OW-2020-0017 online using https://www.regulations.gov (our preferred method), by email to ow-docket@epa.gov or by mail to: The EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI) or other information whose disclosure is restricted by statute.

FOR FURTHER INFORMATION CONTACT: Robert Barles, Drinking Water Protection Division (Mail Code 4606M), Office of Ground Water and Drinking Water, Environmental Protection Agency, 1200 Pennsylvania Avenue NW, Washington, DC 20460; telephone number: 202-564-3814; fax number: 202-564-3754; email address: barles.robert@epa.gov.

SUPPLEMENTARY INFORMATION: Supporting documents which explain in detail the information that the EPA will be collecting are available in the public docket for this ICR. The docket can be viewed online at https://www.regulations.gov or in person at the EPA Docket Center, WJC West, Room 3334, 1301 Constitution Ave. NW, Washington, DC. The telephone number for the Docket Center is 202-566-1744. For additional information about the EPA's public docket, visit https://www.epa.gov/dockets.

Pursuant to section 3506(c)(2)(A) of the PRA (44 U.S.C. 3501 et seq.), the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: The purpose of this information collection is to identify the infrastructure needs of public water systems for the 20-year period from January 2020 through December 2039. The EPA's Office of Ground Water and Drinking Water will collect these data to comply with sections 1452(h) and 1452(i)(4) of the Safe Drinking Water Act (42 U.S.C. 300j-12). This data collection effort will include the 2020 State DWINSA and the 2020 Native American DWINSA. For the State DWINSA, the EPA will collect the 20-year need for systems that are in all 50 states, the U.S. territories (Guam, U.S. Virgin Islands, Northern Mariana Islands, and American Samoa), Puerto Rico, and the District of Columbia. The EPA will use a questionnaire to collect capital investment need information from selected community water systems (CWSs) and not-for-profit noncommunity water systems (NPNCWSs). The EPA will collect data from NPNCWSs serving 10,000 or fewer persons and small CWSs serving 3,300 or fewer persons through site visits. For the Native American DWINSA, the EPA will survey selected American Indian and Alaska Native Village CWSs and NPNCWSs. These systems will receive the same data collection instrument as the systems selected for the 2020 State DWINSA, except that American Indian and Alaska Native Village water systems will not receive questions related to American Iron and Steel because those requirements do not apply to these systems. Participation in the survey is voluntary. The data from the questionnaires will provide the EPA with new information from the field to assist in the 2020 update to the Agency's assessment of the nationwide infrastructure needs of public water systems. As mandated by section 1452(a)(1)(D)(ii) of the Safe Drinking Water Act, the EPA uses the results of the latest survey to allocate Drinking Water State Revolving Fund (DWSRF) monies among states, territories, the EPA Regions (for direct implementation programs), and the Navajo Nation.

Form Numbers: None.

Respondents/affected entities: The respondents for the 2020 Drinking Water Infrastructure Needs Survey and Assessment are CWSs, NPNCWSs, state agencies, the EPA Regions, and the Navajo Nation.

Respondent's obligation to respond: Voluntary.

Estimated number of respondents: 3,969 (total).

Frequency of response: One time.

Total estimated burden: 14,510 hours (average per year over three years). Burden is defined at 5 CFR 1320.03(b).

Total estimated cost: $734,686 (average per year over three years), includes $0 annualized capital or operation & maintenance costs.

Changes in estimates: This ICR does not modify an existing ICR. An ICR was prepared for the previous survey effort done in 2015, which is outside of the 3-year window for modifying an existing ICR for a new effort. For purposes of this reinstatement, the EPA has provided a comparison of burden of the proposed new effort to the estimates of the previous 2015 DWINSA ICR.

The estimated total public reporting burden over the entire 4-year length of the 2015 DWINSA was 37,195 hours. The total public reporting burden for the 2020 DWINSA is estimated to be 43,531 hours, an increase of 17 percent over the 2015 DWINSA. Some aspects of the 2020 DWINSA resulted in an estimated decrease in burden compared to the same data collection for the 2015 effort, and some aspects that are new to the 2020 DWINSA resulted in an increase compared to the 2015 DWINSA. Specific differences between the 2015 and 2020 DWINSAs that resulted in changes in burden are as follows:

• The 2015 DWINSA focused on collecting data on 20-year infrastructure needs from medium and large systems through a State DWINSA. The 2015 DWINSA did not collect new data from small CWSs, state NPNCWSs, or American Indian or Alaska Native Village water systems. The 2015 DWINSA relied on data from the 2007 DWINSA for small CWSs' needs, from the 1999 DWINSA for the state NPNCWSs' needs, and from the 2011 DWINSA for the American Indian and Alaska Native Village systems' needs. The 2020 DWINSA will collect 20-year infrastructure need data from all of those survey groups. This increased scope of the 2020 DWINSA efforts to collect infrastructure needs compared to the 2015 DWINSA added survey groups with corresponding increased burden.

• The approach to data collection and therefore the overall assumptions on the burdens associated with collecting 20-year infrastructure need information from each large, medium, and small CWS for the State DWINSA did not change relative to the most recent State DWINSA in which these water systems were last surveyed. However, the burden estimate for collecting data from each NPNCWS has increased since the last time this type of system was surveyed in the 1999 State DWINSA. At that time, the EPA estimated that NPNCWS staff would spend little time accompanying the survey team during the site visit. Subsequently, the EPA developed more in-depth interview methods to improve capture of the 20-year infrastructure needs. The EPA will apply these newer survey methods to small NPNCWSs (serving 10,000 and fewer persons) for the first time in this 2020 State DWINSA. These changes to the survey methods were previously applied for small CWSs in the 2007 survey and, therefore, the same burden estimates will now apply to both small CWSs and small NPNCWSs. The EPA will apply the same survey methods and, therefore, the same burden to CWS serving 10,000-50,000 persons and NPNCWS serving more than 10,000 persons.

• As previously described, the assumed burdens for collecting 20-year infrastructure need information from each large, medium, and small CWS did not change relative to the most recent DWINSA in which these water systems were surveyed. However, the number of medium and large systems in the State DWINSA that will be surveyed decreased by 322 systems from 2,859 systems in 2015 to 2,537 systems in the 2020 DWINSA. This results in a lower burden estimate.

• The 2015 DWINSA focused on the 20-year infrastructure needs of the surveyed systems. The 2020 DWINSA includes three categories of new questions: Lead Service Lines, Operator Workforce, and American Iron and Steel. These new questions add burden to participating survey respondents, dependent on the category of the question and type of respondent.

• For the first time, the 2015 State Survey used a modified statistical approach where a large majority of the medium systems sampled had been previously sampled in the earlier 2011 State Survey; the change resulted in a significant decrease in states' and systems' reported burden hours. The 2020 State DWINSA applies the same modified approach to the medium system survey as was applied for the 2015 DWINSA. The 2020 DWINSA also applies this approach for the first time to the 2020 Native American DWINSA. The 2015 DWINSA did not collect data on American Indian (AI) and Alaska Native Village (ANV) Needs; however, the estimated burden associated with the 2020 Native American DWINSA is less than was reported in the 2011 ICR.

The increase in burden from the 2015 to the 2020 DWINSA attributable to the addition of new survey respondents (i.e., small water systems; NPNCWSs; and AI and ANV systems, including Navajo Nation water systems) for their 20-year infrastructure investment needs is a combined 3,382 burden hours. That increase is partially offset by a decrease of 1,548 burden hours to ascertain infrastructure needs for fewer large and medium systems. The net result is an increase of 1,560 burden hours from the 2015 to the 2020 DWINSA for water system respondents to report infrastructure needs. Thus, the increase in burden for water systems overall is small relative to the additional data to be collected. The combined burden on primacy agencies for ascertaining water systems' infrastructure needs actually decreases from the 2015 to the 2020 DWINSA.

Most of the increase in burden due to the expanded scope of the type of systems surveyed for infrastructure needs in the 2020 DWINSA is borne by the EPA. The EPA is responsible for collection of data from the small CWSs and NPNCWS for the State DWINSA, and by the EPA Regions for all but the Navajo Nation systems in the Native American DWINSA (the Navajo Nation will collect data for their systems).

An increase of 3,573 burden hours from the 2015 to the 2020 DWINSA for water system respondents is attributable to the additional Lead Service Line, Operator Workforce, and American Iron and Steel questions. Most of this increase in burden is due to the Lead Service Line questions. The Lead Service Line questions account for 2,978 hours (83 percent) of the 3,573 hours of increased burden for the three additional question categories. The Lead Service Line questions will gather information about the water systems' service lines, as mandated by the America's Water Infrastructure Act of 2018 section 2015(e)(2). These 2,978 hours translate to an average of 0.76 burden hours per water system respondent to specifically address the Lead Service Line questions.

These changes are further discussed in the Supporting Statement of the Information Collection Request available in the EPA's docket for comment.

Dated: January 31, 2020.
Jennifer McLain,
Director, Office of Ground Water and Drinking Water.

[FR Doc. 2020-02263 Filed 2-4-20; 8:45 am]

BILLING CODE 6560-50-P